DEPARTMENT OF JUSTICE

Notice of Lodging of Consent Decree Pursuant to the Clean Air Act, Clean Water Act and Resource Conservation and Recovery Act

In accordance with Departmental policy, 28 C.F.R. 50.7, notice is hereby given that a proposed consent decree in United States v. California Office of State Printing, Civil No. CS-00-294-DFL/PAN was lodged on February 11, 2000, with the United States District Court for Eastern District of California.

The consent decree settles claims for civil penalties and injunctive relief against the California Office of State Printing (“OSP”) under the Clean Air Act, Clean Water Act and the Resource Conservation and Recovery Act and regulations promulgated thereunder. The complaint sought injunctive relief and civil penalties against OSP pursuant to Section 113(b) of the Clean Air Act, 42 U.S.C. 7413(b); Sections 309(b) and (d) of the Clean Water Act, 33 U.S.C. 1319 (b) and (d); and Sections 3008(a) and (g) of the Resource Conservation and Recovery Act (“RCRA”), 42 U.S.C. 6928(a) and (g), for violations of the Clean Air Act, Clean Water Act, and RCRA and the regulations promulgated thereunder, including the Sacramento Metropolitan Air Quality Management District (“SMAQMD”) Rules 201 (formerly numbered as Rule 50), 202, 441, and 450 and title 22 of the California Code of Regulations, Sections 66262.10 to 66262.70. The violations occurred at the State Printing facility located at 344 North 7th Street, Sacramento, California.

Pursuant to the consent decree, OSP will pay a civil penalty of $320,500 and will operate under interim emission limits set forth in the consent decree until OSP's application for permits from the SMAQMD has been resolved. OSP will also certify that it is in compliance with the provisions of the Clean Water Act and the Resource Conservation and Recovery Act that it violated.

The Department of Justice will receive, for a period of thirty (30) days from the date of this publication, comments relating to the proposed consent decree. Comments should be addressed to the Assistant Attorney General for the Environment and Natural Resources Division, Department of Justice, Washington, DC 20530, and should refer to United States v. California Office of State Printing, DOJ Ref. # 90-7-1-900.

The proposed consent decree may be examined at the office of the United States Attorney, for the Eastern District of California, 650 Capitol Mall, Sacramento, CA 95814 (916) 554-2766; and the Region IX Office of the Environmental Protection Agency, 75 Hawthorne Street, San Francisco, CA. A copy of the proposed consent decree may be obtained by mail from the Consent Decree Library, P.O. Box 7611, Washington, DC 20044. In requesting a copy please refer to the referenced case and enclose a check in the amount of $6.50 (25 cents per page reproduction costs), payable to the Consent Decree Library.

Joel M. Gross,
Chief, Environmental Enforcement Section, Environment and Natural Resources Division.

[FR Doc. 00-4972 Filed 3-1-00; 8:45 am]

BILLING CODE 4410-15-M